INTERNATIONAL TRADE COMMISSION

[USITC SE-16-037]

Government in the Sunshine Act Meeting Notice

AGENCY HOLDING THE MEETING: United States International Trade Commission.

TIME AND DATE: November 18, 2016 at 11:00 a.m.

PLACE: Room 101, 500 E Street SW., Washington, DC 20436, Telephone: (202) 205-2000.

STATUS: Open to the public.

MATTERS TO BE CONSIDERED: 1. Agendas for future meetings: None.

2. Minutes.

3. Ratification List.

4. Vote in Inv. Nos. 701-TA-549 and 731-TA-1299-1300 and 1302-1303 (Final)(Circular Welded Carbon-Quality Steel Pipe from Oman, Pakistan, the United Arab Emirates, and Vietnam). The Commission is currently scheduled to complete and file its determinations and views of the Commission by December 12, 2016.

5. Vote in Inv. Nos. 701-TA-550 and 731-TA-1304-1305 (Final)(Iron Mechanical Transfer Drive Components from Canada and China). The Commission is currently scheduled to complete and file its determinations and views of the Commission by December 12, 2016.

6. Outstanding action jackets: None.

In accordance with Commission policy, subject matter listed above, not disposed of at the scheduled meeting, may be carried over to the agenda of the following meeting.

By order of the Commission:
Issued: November 9, 2016.
William R. Bishop,
Supervisory Hearings and Information Officer.

[FR Doc. 2016-27408 Filed 11-9-16; 11:15 am]

BILLING CODE 7020-02-P